NATIONAL SCIENCE FOUNDATION

Special Emphasis Panel in Human Resource Development; Notice Of Meeting

In accordance with the Federal Advisory Committee Act (Pub. L. 92-463, as amended), the National Science Foundation announces the following meeting.

Name and Committee Code: Special Emphasis Panel in Human Resource Development (#1199).

Date and Time: April 6-7, 2000; 8:30 am to 5 pm.

Place: National Science Foundation, 4201 Wilson Boulevard, Rooms 320 and 330, Arlington, VA 22230.

Type of Meeting: Closed.

Contact Person: Dr. Margrete S. Klein, Program Coordinator, POWRE Program, Human Resource Development Division, Room 815, National Science Foundation, 4201 Wilson Boulevard, Arlington, VA 22230, Telephone: (703) 306-1637.

Purpose of Meeting: To provide advice and recommendations concerning proposals submitted to NSF for financial support.

Agenda: To review and evaluate formal proposals submitted to the Professional Opportunities for Women in Research and Education (POWRE) Program.

Reason for Closing: The proposals being reviewed include information of a proprietary or confidential nature, including technical information; financial data, such as salaries; and personal information concerning individuals associated with the proposals. These matters are exempt under 5 U.S.C. 552b(c), (4) and (6) of the Government in the Sunshine Act.

Dated: March 6, 2000.
Karen J. York,
Committee Management, Division of Human Resource Management.

[FR Doc. 00-5882 Filed 3-9-00; 8:45 am]

BILLING CODE 7555-01-M